DEPARTMENT OF LABOR

Employment and Training Administration

Proposed Information Collection Request Submitted for Public Comment and Recommendations; ETA-204 Experience Rating Report

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed.

DATES: Submit comments on or before November 14, 2005.

ADDRESSES: Send comments to Edward M. Dullaghan, Office of Workforce Security, Employment and Training Administration, U.S. Department of Labor, Room S4231, 200 Constitution Ave. NW., Washington, DC, 20210; telephone number (202) 693-2927 (this is not a toll-free number); e-mail dullaghan.edward@dol.gov; fax (202) 693-2874.

SUPPLEMENTARY INFORMATION:

I. Background

The data submitted annually on the ETA-204 report enables the Employment and Training Administration to project revenues for the Unemployment Insurance program on a state-by-state basis and to measure the variations in assigned contribution rates which result from different experience rating systems. Used in conjunction with other data, the ETA-204 assists in determining the effects of certain factors (e.g., seasonality, stabilization, expansion, or contraction in employment, etc.) on the unemployment experience of various groups of employers. The data also provide an early signal for potential solvency problems and are useful in analyzing factors which give rise to these potential problems and permit an evaluation of the effectiveness of the various approaches available to correct the detected problems. Further, the data are the basis for determining the Experience Rating Index, which allows for the evaluation of the extent to which benefits in states are effectively charged, noncharged, and ineffectively charged.

II. Desired Focus of Comments

Currently, the Employment and Training Administration is soliciting comments concerning the proposed extension of the ETA-204, Experience Rating Report which:

• Evaluates whether the proposed collection of information is necessary for the proper performance of the functions of the agency, including whether the information will have practical utility;

• Evaluates the accuracy of the agency's estimate of the burden of the proposed collection of information, including the validity of the methodology and assumptions used;

• Enhances the quality, utility, and clarity of the information to be collected; and

• Minimizes the burden of the collection of information on those who are to respond, including through the use of appropriate automated, electronic, mechanical, or other technological collection techniques or other forms of information technology, e.g., permitting electronic submissions of responses.

A copy of the proposed information collection request (ICR) can be obtained by contacting the office listed below in the addressee section of this notice.

III. Current Actions

Type of Review: Extension.

Agency: Employment and Training Administration.

Title: Experience Rating Report.

OMB Number: 1205-0164.

Agency Number: ETA-204.

Affected Public: State Government.

Cite/Reference/Form/etc: ETA-204.

Frequency: Annually.

Total Responses: 53.

Average Time per Response: 15 minutes.

Estimated Total Burden Hours: 13.

Total Burden Cost (Operating/Maintaining): $325.

Comments submitted in response to this notice will be summarized and/or included in the request for Office of Management and Budget approval of the information collection request; they will also become a matter of public record.

Dated: August 9, 2005.
Cheryl Atkinson,
Administrator, Office of Workforce Security, Employment and Training Administration.

[FR Doc. 05-18213 Filed 9-13-05; 8:45 am]

BILLING CODE 4510-30-P